DEPARTMENT OF ENERGY

Federal Energy Regulatory Commission

Combined Notice of Filings

December 3, 2008.

Take notice that the Commission has received the following Natural Gas Pipeline Rate and Refund Report filings:

Docket Numbers: RP96-383-089.

Applicants: Dominion Transmission, Inc.

Description: Dominion Transmission, Inc submits Seventh Revised Sheet 1404 et al. to FERC Gas Tariff 1R3.

Filed Date: 12/1/2008.

Accession Number: 20081202-0168.

Comment Date: 5 p.m. Eastern Time on Monday, December 15, 2008.

Docket Numbers: RP98-18-038.

Applicants: Iroquois Gas Transmission System, L.P.

Description: Iroquois Gas Transmission System, LP submits Second Revised Sheet 6L to its FERC Gas Tariff 1R1.

Filed Date: 12/1/2008.

Accession Number: 20081202-0167.

Comment Date: 5 p.m. Eastern Time on Monday, December 15, 2008.

Docket Numbers: RP00-445-022.

Applicants: Alliance Pipeline L.P.

Description: Alliance Pipeline LP submits Fifteenth Revised Sheet 11 et al to its FERC Gas Tariff, Original Volume 1.

Filed Date: 11/28/2008.

Accession Number: 20081202-0166.

Comment Date: 5 p.m. Eastern Time on Wednesday, December 10, 2008.

Docket Numbers: RP08-97-004.

Applicants: ANR Pipeline Company.

Description: ANR Pipeline Company submits 2nd Sub Eighteenth Revised Sheet 570 to its FERC Gas Tariff, Original Volume 2.

Filed Date: 12/1/2008.

Accession Number: 20081202-0165.

Comment Date: 5 p.m. Eastern Time on Monday, December 15, 2008.

Docket Numbers: RP09-16-003.

Applicants: Cimarron River Pipeline, LLC.

Description: Cimarron River Pipeline, LLC submits Substitute First Revised Sheet 20 et al to FERC Gas Tariff, Original Volume 1.

Filed Date: 12/2/2008.

Accession Number: 20081202-0159.

Comment Date: 5 p.m. Eastern Time on Monday, December 15, 2008.

Docket Numbers: RP09-124-000.

Applicants: Questar Pipeline Company.

Description: Questar Pipeline Company submits Forty-Sixth Revised Sheet 5 to FERC Gas Tariff, First Revised Volume 1, to be effective 1/1/09.

Filed Date: 11/28/2008.

Accession Number: 20081202-0041.

Comment Date: 5 p.m. Eastern Time on Wednesday, December 10, 2008.

Docket Numbers: RP09-125-000.

Applicants: National Fuel Gas Supply Corporation

Description: National Fuel Gas Supply Corporation submits 122nd Revised Sheet 9 to its FERC Gas Tariff 1R4.

Filed Date: 12/1/2008.

Accession Number: 20081202-0164.

Comment Date: 5 p.m. Eastern Time on Monday, December 15, 2008.

Docket Numbers: RP09-126-000.

Applicants: National Fuel Gas Supply Corporation.

Description: National Fuel Gas Supply Corporation submits Thirty Third Revised Sheet 8 to its FERC Gas Tariff 1R4.

Filed Date: 12/1/2008.

Accession Number: 20081202-0163.

Comment Date: 5 p.m. Eastern Time on Monday, December 15, 2008.

Docket Numbers: RP09-127-000.

Applicants: National Fuel Gas Supply Corporation.

Description: National Fuel Gas Supply Corporation submits Twelfth Revised Sheet 43 to its FERC Gas Tariff 1R4.

Filed Date: 12/1/2008.

Accession Number: 20081202-0162.

Comment Date: 5 p.m. Eastern Time on Monday, December 15, 2008.

Docket Numbers: RP09-128-000.

Applicants: Texas Gas Transmission, LLC.

Description: Texas Gas Transmission, LLC submits First Revised Sheet 101 et al to FERC Gas Tariff 1R3, to be effective 1/1/09.

Filed Date: 12/1/2008.

Accession Number: 20081202-0161.

Comment Date: 5 p.m. Eastern Time on Monday, December 15, 2008.

Docket Numbers: RP09-129-000.

Applicants: Texas Gas Transmission, LLC.

Description: Texas Gas Transmission, LLC submits Second Revised Original Sheet 37 et al to its FERC Gas Tariff 1R3.

Filed Date: 12/1/2008.

Accession Number: 20081202-0169.

Comment Date: 5 p.m. Eastern Time on Monday, December 15, 2008.

Docket Numbers: RP09-130-000.

Applicants: Texas Gas Transmission, LLC.

Description: Texas Gas Transmission, LLC submits First Revised Sheet 100 et al to its FERC Gas Tariff 1R3.

Filed Date: 12/1/2008.

Accession Number: 20081202-0170.

Comment Date: 5 p.m. Eastern Time on Monday, December 15, 2008.

Docket Numbers: RP09-131-000.

Applicants: Quest Pipelines (KPC).

Description: Quest Pipelines submits the Annual Interruptible Revenue Crediting Report.

Filed Date: 12/2/2008.

Accession Number: 20081202-0158.

Comment Date: 5 p.m. Eastern Time on Monday, December 15, 2008.

Docket Numbers: RP09-132-000.

Applicants: Northern Border Pipeline Company.

Description: Northern Border Pipeline Co submits Twelfth Revised Sheet 1 et al to FERC Gas Tariff, First Revised Volume 1.

Filed Date: 12/2/2008.

Accession Number: 20081202-0160.

Comment Date: 5 p.m. Eastern Time on Monday, December 15, 2008.

Docket Numbers: CP09-26-000.

Applicants: Source Gas Distribution LLC.

Description: Source Gas Distribution LLC submits application for a blanket certificate of public convenience and necessity authorizing the transportation and sale of natural gas pursuant to Section 7 of the Natural Gas Act.

Filed Date: 11/26/2008.

Accession Number: 20081201-0143.

Comment Date: 5 p.m. Eastern Time on Monday, December 15, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-29337 Filed 12-10-08; 8:45 am]

BILLING CODE 6717-01-P